DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Applications for Trademark Registration (formerly Trademark Processing).

Form Number(s): PTO Forms 4.8, 4.9, 1478, and 1478(a).

Agency Approval Number: 0651-0009.

Type of Request: Revision of a currently approved collection.

Burden: 74,593 hours annually.

Number of Respondents: 253,801 responses per year.

Avg. Hours Per Response: The USPTO estimates that the public will take approximately 15 to 23 minutes completing the applications in this collection, depending on the form and the nature of the information. This includes the time to gather the necessary information, create the documents, and submit the completed request. The time estimates for the electronic forms in this collection are based on the average amount of time needed to complete and electronically file the associated form.

Needs and Uses: This collection of information is required by the Trademark Act, 15 U.S.C. 1051 et seq. and is implemented through the Trademark rules set forth in 37 CFR part 2. It provides for the registration of trademarks, service marks, collective trademarks and service marks, collective membership marks, and certification marks. Individuals and businesses who use their marks, or intend to use their marks, in commerce regulable by Congress, may file an application to register their mark.

The USPTO is proposing to split this collection into four separate collections, based upon the Trademark business processes. This collection will contain the use-based and intent to use applications and applications filed under §§ 44(d) and (e). In addition, this collection includes a reduced filing fee of $275 per class for applications filed through TEAS that meet certain requirements and a $50 processing fee to process applications that do not meet the requirements (see notice of proposed rulemaking, “Requirements to Receive a Reduced Fee for Filing an Application Through the Trademark Electronic Application System” (RIN 0651-AB88) published in the Federal Register on April 7, 2005).

Affected Public: Business or other for-profit, individuals or households, not-for-profit institutions, farms, Federal government, and State, local, or tribal government.

Frequency: On occasion.

Respondent's Obligation: Required to obtain or retain benefits.

OMB Desk Officer: David Rostker, 202-395-3897.

Copies of the above information collection proposal can be obtained by any of the following methods:

• E-mail: Susan.Brown@uspto.gov. Include “0651-0009 Applications for Trademark Registration (formerly Trademark Processing) copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before August 29, 2005 to David Rostker, OMB Desk Officer, Room 10202, New Executive Office Building, 725 17th Street, NW., Washington, DC 20503.

Dated: July 18, 2005.
Susan K. Brown,
Records Officer, USPTO, Office of Data Architecture and Services, Data Administration Division.

[FR Doc. 05-14925 Filed 7-27-05; 8:45 am]

BILLING CODE 3510-16-P